ENVIRONMENTAL PROTECTION AGENCY

[FRL-7805-9]

Science Advisory Board Staff Office, Environmental Economics Advisory Committee; Notification of Public Advisory Committee Meeting (Teleconference)

AGENCY: Environmental Protection Agency (EPA).

ACTION: Notice.

SUMMARY: The Environmental Protection Agency (EPA or Agency), Science Advisory Board (SAB) Staff Office announces a public teleconference for the SAB Environmental Economics Advisory Committee (EEAC) to discuss follow-on matters related to its consultation on the valuation of mortality risk reduction.

DATES: The teleconference will take place on Monday, September 20, 2004, from 1 p.m. to 2:30 p.m. (Eastern Time).

FOR FURTHER INFORMATION CONTACT: Any member of the public who wishes to obtain the teleconference call-numbers and access codes or who wishes to submit written or brief oral comments (five minutes or less), must contact Dr. Holly Stallworth, Designated Federal Officer (DFO), EPA Science Advisory Board (1400A), U.S. Environmental Protection Agency, 1200 Pennsylvania Avenue, NW., Washington, DC 20460; telephone/voice mail: (202) 343-9867.

Requests to provide oral comments must be in writing (e-mail, fax, or mail) and received by Dr. Stallworth no later than five business days prior to the teleconference in order to reserve time on the meeting agenda. It is the policy of the EPA Science Advisory Board Staff Office to accept written public comments of any length, and to accommodate oral public comments whenever possible.

SUPPLEMENTARY INFORMATION: Background: The EEAC, a committee of the EPA Science Advisory Board, is a Federal advisory committee chartered under the Federal Advisory Committee Act (FACA), as amended, 5 U.S.C., App. The EEAC is charged with providing advice, information and recommendations through the chartered SAB to the Agency on the economic issues associated with various EPA programs.

The EEAC held a public meeting in Washington, DC on May 13, 2004 to provide consultative advice to the EPA National Center for Environmental Economics on the valuation of mortality risk reduction. Background on this review was provided in a Federal Register notice published on April 22, 2004 (Vol. 69, No. 78). Minutes of the May 13, 2004 consultation are available on the SAB Web site. The meeting agenda for the September 20, 2004 teleconference will continue this consultative project with a discussion of four questions related to the valuation of mortality risk reduction. This agenda will be posted on the SAB Web site at: http://www.epa.gov/sab prior to the meeting.

Dated: August 12, 2004.
Vanessa T. Vu,
Director, EPA Science Advisory Board Staff Office.

[FR Doc. 04-19437 Filed 8-24-04; 8:45 am]

BILLING CODE 6560-50-P